DEPARTMENT OF ENERGY

Office of Electricity Delivery And Energy Reliability; Department of Energy; Notice of Intent to Establish the Electricity Advisory Committee

Pursuant to Section 9 of the Federal Advisory Committee Act, App. 2, and section 102-3.65, title 41, Code of Federal Regulations and following consultation with the Committee Management Secretariat, General Services Administration, notice is hereby given that the Electricity Advisory Committee is established for a two-year period.

The Committee will provide advice to the Assistant Secretary for Electricity Delivery and Energy Reliability, Office of Electricity Delivery and Energy Reliability (DOE), on long range planning and priorities for the modernization of the Nation's electricity delivery infrastructure.

The Secretary of Energy has determined that establishment of the Committee is required to conduct business of the Department of Energy and is in the public interest in connection with the performance of duties imposed upon the Department of Energy.

The Committee will operate in accordance with the provisions of the Federal Advisory Committee Act (Pub. L. 92-463), the General Services Administration Final Rule on Federal Advisory Committee Management, and other directives and instructions issued in implementation of those acts.

FOR FURTHER INFORMATION CONTACT: Mr. David Meyer at 202-586-3118.

Issued in Washington, DC on January 24, 2008.
Carol A. Matthews,
Acting Committee Management Officer.

[FR Doc. E8-1503 Filed 1-28-08; 8:45 am]

BILLING CODE 6450-01-P